DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Survey of Charter Boat and Head Boat Angler Interactions with Sea Turtles.

OMB Control Number: None.

Form Number(s): NA.

Type of Request: Regular submission (request for a new information collection).

Number of Respondents: 4,000.

Average Hours Per Response: Request to participate in survey, 30 seconds; survey, 10 minutes.

Burden Hours: 365.

Needs and Uses: This request is for a new information collection.

The collection of recreational fishing bycatch data is necessary to fulfill statutory requirements of Section 303 of the Magnuson-Stevens Fishery Conservation and Management Act (16 U.S.C. 1852 et. seq.), Section 401 of the Magnuson-Stevens Fishery Conservation and Management Reauthorization Act, and to comply with Executive Order 12962 on Recreational Fisheries. Additionally, the Endangered Species Act of 1973 (ESA; 16 U.S.C. 1531 et seq.) imposed prohibitions against the taking of endangered species. This collection will seek to better understand the nature and overall level of sea turtle interactions with recreational anglers on charter boats and headboats. The information collected will be used to develop more reliable bycatch estimates.

Affected Public: Individuals or households.

Frequency: One time.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW, Washington, DC 20230 (or via the Internet at JJessup@doc.gov).

Written comments and recommendations for the proposed information collection should be sent within 30 days of publication of this notice to OIRA_Submission@omb.eop.gov.

Dated: August 1, 2013.
Gwellnar Banks,
Management Analyst, Office of the Chief Information Officer.

[FR Doc. 2013-18977 Filed 8-6-13; 8:45 am]

BILLING CODE 3510-22-P